DEPARTMENT OF DEFENSE

Office of the Secretary

[Docket ID: DoD-2022-OS-0134]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by April 3, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Evaluation of State Implementation of Supportive Policies to Improve Educational Experiences and Achievement for K-12 Military Children (SPEAK Military Children); OMB Control Number 0704-SPEK.

Type of Request: New.

Number of Respondents: 225.

Responses per Respondent: 1.

Annual Responses: 225.

Average Burden per Response: 45 minutes.

Annual Burden Hours: 168.75.

Needs and Uses: The purpose of this study is to investigate the implementation of four specific initiatives (i.e., Advance Enrollment, Military Student Identifier, Purple Star Schools [or similar efforts], and the Interstate Compact on Educational Opportunity for Military Children) and other policies intended to support military-connected students' (i.e., kindergarten through 12th grade) educational success (e.g., academic performance, social-emotional development and well-being).

Each of these groups of people may have different perspectives on the implementation of the abovementioned four initiatives. Since little is known about the implementation or effectiveness of these initiatives, understanding different stakeholders' perspectives is critical. With a better understanding of how the programs and policies are being implemented and stakeholders' perceptions of the programs and policies, the Defense-State Liaison Office will be able to make informed recommendations for improvements in federal and state policies intended to support children in military families.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: February 27, 2023.
Aaron T. Siegel,
Alternate OSD Federal Register Liaison Officer, Department of Defense.

[FR Doc. 2023-04293 Filed 3-1-23; 8:45 am]

BILLING CODE 5001-06-P